DEPARTMENT OF TRANSPORTATION

Federal Aviation Administration

Notice of Intent To Rule on Request To Release Airport Property at the Rocky Mountain Metropolitan Airport, Broomfield, Colorado

AGENCY: Federal Aviation Administration (FAA), DOT.

ACTION: Notice of request to release airport property.

SUMMARY: The FAA proposes to rule and invite public comment on the release of land at the Rocky Mountain Metropolitan Airport under the provisions of Section 125 of the Wendell H. Ford Aviation Investment Reform Act for the 21st Century (AIR 21), now 49 U.S.C. 47107(h)(2).

DATES: Comments must be received on or before April 6, 2015.

ADDRESSES: Comments on this application may be mailed or delivered to the FAA at the following address: Mr. John P. Bauer, Manager, Federal Aviation Administration, Northwest Mountain Region, Airports Division, Denver Airports District Office, 26805 E. 68th Avenue, Suite 224, Denver, Colorado 80249-6361.

In addition, one copy of any comments submitted to the FAA must be mailed or delivered to Ms. Aubrey L. McGonigle, Airport Administration Manager, Rocky Mountain Metropolitan Airport, Broomfield, Colorado, at the following address: Ms. Aubrey L. McGonigle, Airport Administration Manager, Rocky Mountain Metropolitan Airport, 11755 Airport Way, Broomfield, Colorado 80021.

FOR FURTHER INFORMATION CONTACT: Mr. Marc Miller, Colorado Engineer/Compliance Specialist, Federal Aviation Administration, Northwest Mountain Region, Denver Airports District Office, 26805 E. 68th Avenue, Suite 224, Denver, Colorado 80249-6361.

The request to release property may be reviewed, by appointment, in person at this same location.

SUPPLEMENTARY INFORMATION: The FAA invites public comment on the request to release property at the Rocky Mountain Metropolitan Airport under the provisions of the AIR 21 (49 U.S.C. 47107(h)(2)).

On December 30, 2014, the FAA determined that the request to release property at the Rocky Mountain Metropolitan Airport submitted by Jefferson County meets the procedural requirements of the Federal Aviation Administration. The FAA may approve the request, in whole or in part, no later than April 6, 2015.

The following is a brief overview of the request: Jefferson County is proposing the release from the terms, conditions, reservations, and restrictions on a 449 acre parcel of property acquired by Jefferson County on June 2, 1959. This property was transferred to the Jefferson County Airport Authority in April of 1966. With the dissolution of the Airport Authority in 1998, this property ownership was then transferred back to Jefferson County, as the airport sponsor, January 11, 1999. Elevation constraints of this parcel compared to the Runway environment makes it unusable for airport development. The property is currently undeveloped vacant land. The expected future use of the property is for non-aviation development associated with the Verve Innovation Park, as well as the realignment of Simms Street to allow for more aviation development to the east. The proceeds for the disposal of the property will be at fair market value and the sponsor will utilize the revenue to reinvest into future airport development.

Any person may inspect, by appointment, the request in person at the FAA office listed above under FOR FURTHER INFORMATION CONTACT.

In addition, any person may, upon appointment and request, inspect the application, notice and other documents germane to the application in person at the Rocky Mountain Metropolitan Airport.

Issued in Denver, Colorado, on February 25, 2015.
John P. Bauer,
Manager, Denver Airports District Office.

[FR Doc. 2015-05109 Filed 3-5-15; 8:45 am]

BILLING CODE 4910-13-P